DEPARTMENT OF THE INTERIOR

National Park Service

Notice of Inventory Completion: The University of Montana, Missoula, MT

AGENCY: National Park Service, Interior.

ACTION: Notice.

Notice is here given in accordance with the Native American Graves Protection and Repatriation Act (NAGPRA), 25 U.S.C. 3003, of the completion of an inventory of human remains and associated funerary objects in the possession of The University of Montana, Missoula, MT. The human remains and associated funerary objects were removed from various locations in western Montana.

This notice is published as part of the National Park Service’s administrative responsibilities under NAGPRA, 25 U.S.C. 3003 (d)(3). The determinations within this notice are the sole responsibility of the museum, institution, or Federal agency that has control of the Native American human remains and associated funerary objects. The National Park Service is not responsible for the determinations within this notice.

A detailed assessment of the human remains was made by The University of Montana professional staff in consultation with the Confederated Salish & Kootenai Tribes of the Flathead Reservation, Montana.

Prior to 1991, human remains (UMFC01) representing a minimum of two individuals were removed from an unknown location in Montana west of the Continental Divide. Some of the human remains are stained with a red substance likely to be ocher, which is consistent with a prehistoric Native American secondary burial practice. No known individuals were identified. No associated funerary objects are present.

Prior to 1991, human remains (UMFC10) representing a minimum of one individual were removed from an unknown location in Montana west of the Continental Divide. The human remains are weathered to an extent consistent with an age of several hundred years, and the human remains therefore probably are associated with the prehistoric Native American inhabitants of Montana. No known individual was identified. No associated funerary objects are present.

Prior to 1991, human remains (UMFC11) representing a minimum of one individual were removed from an unknown location in Montana west of the Continental Divide. Some of the human remains are stained with a red substance likely to be ocher, which is consistent with a prehistoric Native American secondary burial practice. No known individual was identified. No associated funerary objects are present.

Prior to 1991, human remains (UMFC15) representing a minimum of one individual were removed from an unknown location in Montana west of the Continental Divide. Some of the human remains are stained with a red substance likely to be ocher, which is consistent with a prehistoric Native American secondary burial practice. Although the skull is too fragmentary to evaluate ancestry with certainty, characteristics of the skull and geographic location indicate that the individual was probably Native American. No known individual was identified. No associated funerary objects are present.

Prior to 1991, human remains (UMFC17) representing a minimum of one individual were removed from an unknown location in Montana west of the Continental Divide. Some of the human remains are stained with a red substance likely to be ocher, which is consistent with a prehistoric Native American secondary burial practice. Although the skull is too fragmentary to evaluate ancestry with certainty, characteristics of the skull and geographic location indicate that the individual was probably Native American. No known individual was identified. No associated funerary objects are present.

In 1938, human remains (UMFC20) representing a minimum of one individual were removed from an unknown location in Mineral County, MT. Physical characteristics of the human remains, the types of associated funerary objects, and geographic location indicate that the individual was probably Native American from late prehistoric or historic times. No known individual was identified. The 71 associated funerary objects are 39 shell beads, 30 glass beads, and 2 chipped stone artifacts.

Prior to 1991, human remains (UMFC21) representing a minimum of two individuals were removed from an unknown location in Montana west of the Continental Divide. Physical characteristics of one set of human remains and geographic location indicate that the individuals were probably Native American. No known individuals were identified. No associated funerary objects are present.

Prior to 1991, human remains (UMFC24) representing a minimum of one individual were removed from an unknown location in Sanders County, MT. The character of the dental wear is similar to that on prehistoric individuals from the region and therefore the individual is most likely Native American. No known individual was identified. No associated funerary objects are present.

Prior to 1991, human remains (UMFC25) representing a minimum of one individual were removed from an unknown location in Montana west of the Continental Divide. The individual is immature, but the observable characteristics on the human remains and geographic location indicate that the individual was probably Native American. No known individual was identified. No associated funerary objects are present.

Prior to 1991, human remains (UMFC34) representing a minimum of one individual were removed from an unknown location in Montana west of the Continental Divide. The individual exhibits a mixture of “Mongoloid” and “Caucasoid” characteristics, but the types of associated funerary objects make it reasonably certain that the human remains are Native American. No known individual was identified. The 80 associated funerary objects are 66 shell beads and 14 elk teeth.

Prior to 1991, human remains (UMFC41) representing a minimum of two individuals were removed from an unknown location in Montana west of the Continental Divide. Although the human remains are too fragmentary to evaluate ancestry with certainty, some characteristics are present that are typical of Native Americans. Moreover, the degree of weathering of the human remains is consistent with a prehistoric age, and the human remains are therefore considered to be Native American. No known individuals were identified. No associated funerary objects are present.

In 1978, human remains (UMFC48) representing a minimum of one individual were removed from the prehistoric archeological site 24SA118 in Sanders County, MT. Metric analysis of the human remains indicates that the individual is of Native American ancestry. No known individual was identified. No associated funerary objects are present.

Prior to 1991, human remains (UMFC53) representing a minimum of one individual were removed from an unknown location in Montana west of the Continental Divide. The type of the associated funerary objects and degree of weathering of the human remains makes the attribution of the human remains as Native American from late prehistoric or historic times reasonably certain. No known individual was identified. The 17 associated funerary objects are glass beads.

Prior to 1991, human remains (UMFC67) representing a minimum of one individual were removed from an unknown location in Montana west of the Continental Divide. Some of the human remains are stained with a red substance likely to be ocher, which is consistent with a prehistoric Native American secondary burial practice. No known individual was identified. No associated funerary objects are present.

Prior to 1991, human remains (UMFC72) representing a minimum of one individual were removed from an unknown location in Montana west of the Continental Divide. Metric analysis and geographic location indicate that the individual was probably Native American. No known individual was identified. No associated funerary objects are present.

Prior to 1991, human remains (24MO1017) representing a minimum of one individual were removed from prehistoric archeological site 24MO1017 in Missoula County, MT. Metric analysis and geographic location indicate that the individual was probably Native American. No known individual was identified. No associated funerary objects are present.

Prior to 1991, human remains (24PW1065) representing a minimum of one individual were removed from prehistoric archeological site 24PW1065 in Powell County, MT. Metric analysis and geographic location indicate that the individual was probably Native American. No known individual was identified. No associated funerary objects are present.

At various unknown times before 1991, local law enforcement officials from the counties from which the human remains described above were removed presented the human remains to the Montana State Medical Examiner and The University of Montana, Department of Anthropology physical anthropologists for analysis. Local Sheriffs/Coroners had custody of the human remains and associated funerary objects until May 2002. At that time, The University of Montana sought and received custody of the human remains and associated funerary objects from the law enforcement officials for the purpose of returning them to Native American tribes pursuant to applicable State and Federal laws.

In 1999, human remains representing a minimum of one individual were left at The University of Montana by an unknown individual who did not disclose the location or date of discovery of the human remains other than the fact that they came from the Seeley Lake area of Missoula County, MT. Metric analysis and geographic location indicate that the individual was probably Native American. No known individual was identified. No associated funerary objects are present.

The region from which all of the human remains described above originated was inhabited during prehistoric and historic times by the ancestors of the present-day Confederated Salish & Kootenai Tribes of the Flathead Reservation, Montana. On the basis of oral traditions; geographic, kinship, archeological, anthropological, and historical data; and study of the human remains and associated funerary objects, The University of Montana has determined that the human remains and associated funerary objects are culturally affiliated with members of the Confederated Salish & Kootenai Tribes of the Flathead Reservation, Montana.

Officials of The University of Montana have determined that, pursuant to 25 U.S.C. 3001 (9-10), the human remains described above represent the physical remains of 21 individuals of Native American ancestry. Officials of The University of Montana also have determined that, pursuant to 25 U.S.C. 3001 (3)(A), the 168 objects described above are reasonably believed to have been placed with or near individual human remains at the time of death or later as part of the death rite or ceremony. Lastly, officials of The University of Montana have determined that, pursuant to 25 U.S.C. 3001 (2), there is a relationship of shared group identity that can be reasonably traced between the human remains and the Confederated Salish & Kootenai Tribes of the Flathead Reservation, Montana.

Representatives of any other Indian tribe that believes itself to be culturally affiliated with the human remains should contact Thomas A. Foor, Professor, Department of Anthropology, The University of Montana, Missoula, MT 59806, telephone (406) 243-2971, before September 19, 2003. Repatriation of the human remains and associated funerary objects to the Confederated Salish & Kootenai Tribes of the Flathead Reservation, Montana may proceed after that date if no additional claimants come forward.

The University of Montana is responsible for notifying the Confederated Salish & Kootenai Tribes of the Flathead Reservation, Montana that this notice has been published.

Dated: July 9, 2003.
John Robbins,
Assistant Director, Cultural Resources.

[FR Doc. 03-21340 Filed 8-19-03; 8:45 am]

BILLING CODE 4310-70-S